ELECTION ASSISTANCE COMMISSION

Sunshine Act Notice

AGENCY: U.S. Election Assistance Commission.

ACTION: Notice of Public Meeting and Hearing Agenda.

DATE & TIME: Monday, June 28, 2010, 10 a.m.—12 p.m. CDT (Morning Session), 1-4 p.m. CDT (Afternoon Session).

PLACE: Sheraton Chicago Hotel and Towers, 301 East North Water Street, Chicago, IL 60611, (312) 464-1000.

MEETING AGENDA: The Commission will hold a public meeting to hold a discussion on a clearinghouse policy. Commissioners will act on the following matters: (1) Consider and vote on a Maintenance of Expenditure (MOE) policy; (2) consider and vote on the publication of proposed draft National Voter Registration Act (NVRA) regulations for public comment. Commissioners will consider other administrative matters.

HEARING AGENDA: The Commission will conduct a public hearing to receive presentations on the following topic: Voting System Pre-Election Logic and Accuracy Testing and Post-Election Audit Grants. Members of the public who wish to speak at the hearing, regarding voting system pre-election logic and accuracy testing and post-election audit grants may send a request to participate to the EAC by 12 Noon CDT June 28, 2010. Due to time constraints, the EAC can select no more than ten participants amongst the volunteers who request to participate. The selected volunteers will be allotted three-minutes each to share their viewpoint. Participants will be selected on a first-come, first-served basis. However, to maximize diversity of input, only one participant per organization or entity will be chosen if necessary. Participants may also submit written testimony to be published at http://www.eac.gov. Requests to speak may be sent to the EAC via e-mail at testimony@eac.gov, via mail addressed to the U.S. Election Assistance Commission, 1201 New York Avenue, NW., Suite 300, Washington, DC 20005, or by fax at 202-566-1392. All requests must include a description of what will be said, contact information which will be used to notify the requestor with status of request (phone number on which a message may be left or e-mail), and include the subject/attention line (or on the envelope if by mail): Grants: Logic/Accuracy/Audits. Please note that these comments will be made available to the public at http://www.eac.gov.

Written comments from members of the public, regarding voting system pre-election logic and accuracy testing and post-election audit grants will also be accepted. This testimony will be included as part of the written record of the hearing, and available on our Web site. Written testimony must be received by 5 pm. CDT June 28, 2010, and should be submitted via e-mail at testimony@eac.gov, via mail addressed to the U.S. Election Assistance Commission, 1201 New York Avenue, NW., Suite 300, Washington, DC 20005, or by fax at 202-566-1392. All correspondence that contains written testimony must have in the subject/attention line (or on the envelope if by mail): Written Submission for Grants: Logic/Accuracy/Audits.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This Meeting and Hearing Will Be Open to the Public.

PERSON TO CONTACT FOR INFORMATION: Bryan Whitener, Telephone: (202) 566-3100.

Signed:

Donetta Davidson,
Chair, U.S. Election Assistance Commission.

[FR Doc. 2010-15535 Filed 6-22-10; 4:15 pm]

BILLING CODE 6820-KF-P